DEPARTMENT OF ENERGY

Federal Energy Regulatory Commission

Combined Notice of Filings

Take notice that the Commission has received the following Natural Gas Pipeline Rate and Refund Report filings:

Docket Numbers: RP13-460-000.

Applicants: Cadeville Gas Storage LLC.

Description: Cadeville Gas Storage LLC submits tariff filing per 154.203: Cadeville Gas Storage Tariff Filing 1/18/13 to be effective 1/18/2013.

Filed Date: 1/18/13.

Accession Number: 20130118-5175.

Comments Due: 5 p.m. ET 1/30/13.

Docket Numbers: RP13-461-000.

Applicants: Iroquois Gas Transmission System, L.P.

Description: Iroquois Gas Transmission System, L.P. submits tariff filing per 154.204: 01/18/13 Negotiated Rates—JP Morgan Ventures Energy Corp (HUB) 6025-89 to be effective 1/18/2013.

Filed Date: 1/18/13.

Accession Number: 20130118-5181.

Comments Due: 5 p.m. ET 1/30/13.

Docket Numbers: RP13-462-000.

Applicants: Iroquois Gas Transmission System, L.P.

Description: Iroquois Gas Transmission System, L.P. submits tariff filing per 154.204: 01/18/13 Negotiated Rates—Sequent Energy Management (HUB) 3075-89 to be effective 1/18/2013.

Filed Date: 1/18/13.

Accession Number: 20130118-5189.

Comments Due: 5 p.m. ET 1/30/13.

Docket Numbers: RP13-463-000.

Applicants: Iroquois Gas Transmission System, L.P.

Description: Iroquois Gas Transmission System, L.P. submits tariff filing per 154.204: 01/18/13 Negotiated Rates—United Energy Trading (HUB) 5095-89 to be effective 1/18/2013.

Filed Date: 1/18/13.

Accession Number: 20130118-5194.

Comments Due: 5 p.m. ET 1/30/13.

Docket Numbers: RP13-464-000.

Applicants: Tennessee Gas Pipeline Company, L.L.C.

Description: Tennessee Gas Pipeline Company, L.L.C. submits tariff filing per 154.204: pro forma—Rich Gas Service Provisions to be effective 12/31/9998.

Filed Date: 01/18/2013.

Accession Number: 20130118-5258.

Comments Due: 5 p.m. ET 1/30/13.

Docket Numbers: RP13-465-000.

Applicants: Iroquois Gas Transmission System, L.P.

Description: Iroquois Gas Transmission System, L.P. submits tariff filing per 154.204: 01/21/13 Negotiated Rates—JP Morgan Ventures Energy Corp (HUB) 6025-89 to be effective 1/19/2013.

Filed Date: 1/22/13.

Accession Number: 20130122-5011.

Comments Due: 5 p.m. ET 2/4/13.

Docket Numbers: RP13-466-000.

Applicants: Iroquois Gas Transmission System, L.P.

Description: Iroquois Gas Transmission System, L.P. submits tariff filing per 154.204: 01/21/13 Negotiated Rates—United Energy Trading (HUB) 5095-89 to be effective 1/19/2013.

Filed Date: 1/22/13.

Accession Number: 20130122-5012.

Comments Due: 5 p.m. ET 2/4/13.

Docket Numbers: RP13-467-000.

Applicants: Texas Eastern Transmission, LP.

Description: Texas Eastern Transmission, LP submits tariff filing per 154.204: Modification of Exhibit B to the SS-1 Service Agreement to be effective 2/22/2013.

Filed Date: 1/22/13.

Accession Number: 20130122-5075.

Comments Due: 5 p.m. ET 2/4/13.

Filings Instituting Proceedings

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Dated: January 22, 2013.
Nathaniel J. Davis, Sr.,
Deputy Secretary.

[FR Doc. 2013-01753 Filed 1-28-13; 8:45 am]

BILLING CODE 6717-01-P